DEPARTMENT OF ENERGY

Federal Energy Regulatory Commission

[Docket No. EC04-110-000, et al.]

Michigan Electric Transmission Company, LLC, et al.; Electric Rate and Corporate Filings

May 19, 2004.

The following filings have been made with the Commission. The filings are listed in ascending order within each docket classification.

1. Michigan Electric Transmission

[Docket Nos. EC04-110-000 and ER04-847-000]

Take notice that on May 17, 2004, Michigan Electric Transmission Company, LLC (METC) submitted an application under sections 203 and 205 of the Federal Power Act, 16 U.S.C. 824b and 824d and parts 33 and 35 of the Commission's regulations, 18 CFR parts 33 and 35, for approval to transfer undivided ownership interests in certain of METC's extra high voltage transmission facilities to the Michigan South Central Power Agency (MSCPA) and Michigan Public Power Agency (MPPA) (jointly, the Michigan Agencies) and for approval or acceptance of (1a) a new MSCPA 2004 Transmission Ownership and Operating Agreement between METC and MSCPA; and (2) a new MPPA 2004 Transmission Ownership and Operating Agreement between METC and MPPA (collectively, 2004 O&O Agreements). METC seeks an effective date for the 2004 O&O Agreements of the closing date of the transfers described above.

Comment Date: June 8, 2004.

2. Calpine King City Cogen, LLC

[Docket No. EG04-69-000]

Take notice that on May 18, 2004, Calpine King City Cogen, LLC (Applicant) filed with the Federal Energy Regulatory Commission an application for determination of exempt wholesale generator status pursuant to part 365 of the Commission's regulations.

Applicant states that it is a Delaware limited liability company, operates a 120 megawatt natural gas-fired combined cycle electric generating facility located in King City, Monterrey County, California.

Applicant further states that copies of the application were served upon the United States Securities and Exchange Commission and California Public Utilities Commission.

Comment Date: June 8, 2004.

3. Florida Power & Light Company

[Docket No. ER93-465-033]

Take notice that on May 14, 2004, Florida Power & Light Company filed a compliance filing in accordance with the Commission's order issued December 16, 2003, in Docket No. ER93-465-033, Florida Power & Light Co., 105 FERC ¶ 61,287 (2003), order on reh'g, 106 FERC ¶ 61,204 (2004).

Comment Date: June 4, 2004.

4. Southern California Water Company

[Docket No. EL02-129-002]

Take notice that on May 7, 2004, Southern California Water Company, (SCWC) tendered for filing a refund report in compliance with the Commission's Letter Order issued March 26, 2004, in Docket No. EL02-129-000 (106 FERC ¶ 61,305).

SCWC states that a copy of this filing has been served by mail on Mirant Americas Energy Marketing, L.P. and the California Public Utilities Commission.

Comment Date: May 28, 2004.

5. Pacific Gas and Electric Company, Complaint v. California Independent System Operator Corporation, Respondent

[Docket No. EL04-103-000]

Take notice that on May 18, 2004, Pacific Gas and Electric Company (PG&E) tendered for filing with the Commission pursuant to rule 206 of the Commission's rules of practice and procedure, 18 CFR 385.206, a Complaint Requesting Relief. PG&E filed the Compliant against California Independent System Operator Corporation (CAISO) and requests the Commission to establish an investigation into unjust and unreasonable cost allocation, but hold such proceeding in abeyance for a period of six months pending consideration of an expected CAISO tariff amendment which would provide a basis for reallocating such unjust and unreasonable costs.

Comment Date: June 7, 2004.

6. Mirant Kendall, LLC

[Docket No. ER04-650-001]

Take notice that on May 10, 2004, Mirant Kendall, LLC (Mirant Kendall) submitted, pursuant to the Commission's Letter Order issued May 6, 2004, notification of approval of the Bankruptcy Court for Mirant Kendall to enter into the Substation Agreement on April 7, 2004.

Comment Date: June 4, 2004.

7. Reliant Energy Aurora, LP

[Docket No. ER04-662-001]

Take notice that on May 14, 2004 Reliant Energy Aurora, LP (Aurora) filed an amended Black Start Service Agreement between Reliant Energy Aurora, LP and Commonwealth Edison to conform with Order 614. Aurora states that this filing is made in compliance with a Letter Order issued April 30, 2004, in Docket No. ER04-662-000.

Aurora states that copies of this filing were served upon persons designated on the official service list compiled by the Secretary in this proceeding and the parties to the agreement.

Comment Date: June 4, 2004.

8. California Independent System Operator Corporation

[Docket No. ER03-683-005]

Take notice that on May 17, 2004, the California Independent System Operator Corporation (ISO) submitted a filing to comply with the “Order on Compliance Filing” issued April 16, 2004, in Docket Nos. ER03-683-002 and 003, 107 FERC ¶ 61,042, and the “Order on Rehearing” issued April 16, 2004, in Docket No. ER03-683-001,107 FERC ¶ 61,028.

The ISO states that it has served copies of this filing upon all parties on the official service list for the above-referenced proceeding. In addition, the ISO states that it is posting the filing on the ISO home page.

Comment Date: June 7, 2004.

9. Ohms Energy Company, LLC.

[Docket No. ER04-848-000]

Take notice that on May 17, 2004, Ohms Energy Company, LLC. (OEC) petitioned the Commission for acceptance of OEC Rate Schedule FERC No. 1; the granting of certain blanket approvals, including the authority to sell electricity at market-based rates; and the waiver of certain Commission regulations. OEC states that it intends to engage in wholesale electric power and energy purchases and sales as a marketer. OEC requests that the rate schedule be effective 60 days after filing, or the date the Commission issues an order accepting the rate schedule, whichever occurs first.

Comment Date: June 7, 2004.

10. GenWest, LLC

[Docket No. ER04-849-000]

Take notice that on May 14, 2004, GenWest, LLC (GenWest) submitted a tariff for Emergency Redispatch Service. GenWest requests an effective date of May 17, 2004.

GenWest states that a copy of this filing was served upon Public Utility Commission of Nevada, Nevada Power Company, and Southern Nevada Water Authority.

Comment Date: June 4, 2004.

11. PJM Interconnection, L.L.C.

[Docket No. ER04-851-000]

Take notice that on May 14, 2004, PJM Interconnection, L.L.C. (PJM), tendered for filing an executed Transition Service Agreement with Exelon Generation Company, L.L.C. (ExGen), for use solely in connection with a dynamic schedule to the Hannibal, Ohio facility of Ormet Primary Aluminum Corporation (Ormet). PJM states that the agreement ratifies, amends, and replaces, effective May 15, 2004, the unexecuted service agreement filed by PJM in this proceeding on April 30, 2004. PJM further states that the service agreement is intended solely as a short-term transitional agreement to accommodate continuation for a few months of the unique arrangements that were in place for service to Ormet prior to the integration of Commonwealth Edison Company (ComEd) into PJM. PJM requests that the Commission waive certain otherwise applicable provisions of its tariff to accommodate continuation of this dynamic schedule through its short remaining term. PJM requests that the agreement be accepted effective May 15, 2004, and therefore requests waiver of the 60-day notice requirement.

PJM states that copies of this filing were served upon ExGen and the state commissions in the PJM region.

Comment Date: June 4, 2004.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-1218 Filed 5-26-04; 8:45 am]

BILLING CODE 6717-01-P